DEPARTMENT OF ENERGY

Federal Energy Regulatory Commission

[Docket No. RP00-260-011]

Texas Gas Transmission Corporation; Notice of Proposed Changes in FERC Gas Tariff

August 1, 2002.

Take notice that on July 29, 2002, Texas Gas Transmission Corporation (Texas Gas) tendered for filing as part of its FERC Gas Tariff, First Revised Volume No. 1, the tariff sheets listed on Appendix A to the filing, to become effective on the dates set forth on the respective tariff sheets in accordance with Article II and Article XIII of the Stipulation and Agreement of Settlement (Settlement).

Texas Gas states that this filing is being submitted in accordance with the Settlement filed on August 14, 2001 by Texas Gas. On March 4, 2002, the Commission issued an “Order Accepting Offer of Settlement and Severing Parties” which accepted the August 2001 Settlement as to the consenting parties and severed the Indicated Shippers for further proceedings before the Administrative Law Judge. Pursuant to Section 1 of Article II of the Settlement, Texas Gas shall file tariff sheets to implement the Settlement within twenty days after the date it becomes effective. Such tariff sheets shall place the “retroactive settlement base rates” into effect commencing November 1, 2000, and continuing until the “prospective settlement base rates” go into effect “* * * on the first day of the next calendar month after the date on which this Stipulation becomes effective * * *”. The prospective rates contained herein are effective on August 1, 2002. By this filing, Texas Gas seeks to implement the provisions of the Settlement according to its terms.

Texas Gas states that copies of the revised tariff sheets are being mailed to all parties on the official service list, to Texas Gas's jurisdictional customers and to interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-19930 Filed 8-6-02; 8:45 am]

BILLING CODE 6717-01-P